DEPARTMENT OF LABOR

Employment and Training Administration

[TA-W-55,406]

United States Can Company, New Castle, PA; Notice of Termination of Investigation

Pursuant to section 221 of the Trade Act of 1974, as amended, an investigation was initiated on August 9, 2004, in response to a petition filed by the company on behalf of workers at United States Can Company, New Castle, Pennsylvania.

The petitioner has requested that the petition be withdrawn. Consequently, further investigation in this case would serve no purpose, and the investigation has been terminated.

Signed at Washington, DC, this 12th day of August, 2004.
Linda G. Poole,
Certifying Officer, Division of Trade Adjustment Assistance.

[FR Doc. 04-19317 Filed 8-23-04; 8:45 am]

BILLING CODE 4510-30-P